DEPARTMENT OF THE INTERIOR

National Park Service

[N6953; NPS-WASO-NAGPRA-NPS0042090; PPWOCRADN0-PCU00RP14.R50000]

Notice of Inventory Completion: University of Missouri-St. Louis, St. Louis, MO

AGENCY: National Park Service, Interior.

ACTION: Notice.

SUMMARY: In accordance with the Native American Graves Protection and Repatriation Act (NAGPRA), the University of Missouri-St. Louis (UMSL) has completed an inventory of human remains and associated funerary objects and has determined that there is a cultural affiliation between the human remains and associated funerary objects and Indian Tribes or Native Hawaiian organizations in this notice.

DATES: Repatriation of the human remains and associated funerary objects in this notice may occur on or after April 1, 2026.

ADDRESSES: Send written requests for repatriation of the human remains and associated funerary objects in this notice to Patti J. Wright, Ph.D., Dept. of Anthropology and Archaeology, 507 Clark Hall, One University Blvd., St. Louis, MO 63121, email pjwright@umsl.edu.

SUPPLEMENTARY INFORMATION: This notice is published as part of the National Park Service's administrative responsibilities under NAGPRA. The determinations in this notice are the sole responsibility of the UMSL, and additional information on the determinations in this notice, including the results of consultation, can be found in its inventory or related records. The National Park Service is not responsible for the determinations in this notice.

Abstract of Information Available

Human remains representing, at least, 47 individuals have been identified. The 1,130 associated funerary objects are 86 lots of flotation samples and mound fill and 1,044 objects including stone artifacts, hematite/ocher fragments, carbonized plant remains, animal remains including mussel shell, daub and sherds. Solto Mounds (23SC12) was located in St.Charles County, Missouri, and excavated by a team from Southern Illinois University at Edwardsville.

Human remains representing, at least, 25 individuals have been identified. The 99 associated funerary objects are sherds, burned clay and limestone, lithic debris, and galena and sandstone fragments. Portions of the Stelzer Site (23SC910) was located in St. Charles County, Missouri, and the remains were recovered during the 1993 flood by staff of the UMSL Archaeological Survey.

Human remains representing, at least, two individuals have been identified. No associated funerary objects are present. Bluff or Kreilich Site (23STG300/23SG218) was located in Ste. Genevieve County, Missouri, and excavated by the University of Missouri-Columbia (UMC) staff and these two crania were likely borrowed from UMC in the late 1970s.

Human remains representing, at least, one individual have been identified. No associated funerary remains are present. 23STG168 was located in Ste. Genevieve County, Missouri and excavated in 1983 by UMSL staff as a part of a CRM project.

Human remains representing, at least, 23 individuals have been identified. The six associated funerary objects are a bannerstone frag, hammerstones, and faunal remains. Riverbend East and West (23SL78/79), St. Louis County, Missouri, was excavated 1960-1962 by Dale Henning, then of UMC.

Human remains representing, at least, 16 individuals have been identified. The two associated funerary objects are a cores. The Simpson Quarry site (23SL122) is located in St. Louis County, Missouri.

Humans remains representing, at least, one individual have been identified. No associated funerary items are present. The Pullian site (23LN112) is located in Lincoln County, Missouri, and was investigated by UMSL staff after reports from property owner.

Human remains representing, at least, 49 individuals have been identified. No associated funerary remains are present. The remains are from multiple unknown sites in east central Missouri surrendered by members of the public in the 1970s and 1980s.

Human remains representing, at least, 30 individuals have been identified. The 313 associated funerary remains include 312 ceramic and stone artifacts and one 25,184 g lot of flotation and soil samples. The Truman Site (23SC924) was located in St. Charles County, MO, and was excavated as part of several CRM projects by UMSL staff.

Human remains representing, at least, 32 individuals have been identified. The 385 associated funerary items are stone and ceramic artifacts. The Blick Collection reflects a number of St. Louis, Missouri regional site locations (no site numbers assigned) amassed by a local collector in the 1960s and donated to UMSL in 2010.

Human remains representing, at least, 20 individuals have been identified. No associated funerary remains are present. The Bridgeton Site (23SL442) was located in St. Louis County, Missouri, and was excavated during UMSL 1983, 1984, and 1985 field schools.

Human remains representing, at least, 19 individuals have been identified. No associated funerary remains are present. The Bridgeton Terrace Site (23SL12) was located adjacent to 23SL442 above in St. Louis County, MO. It was investigated during the UMSL field schools 1983, 1984, and 1985.

Human remains representing, at least, four individuals have been identified. The 1,337 associated funerary items include ceramic and stone artifacts and one 1092.7g lot of flotation and soil samples. Gateway Academy is located in St. Louis County Missouri, and portions of it were excavated by UMSL staff.

Human remains representing, at least, one individual have been identified. No associated funerary items are present. The remain was recovered from Jefferson Barracks (23SL108) and turned into the UMSL Archaeological Survey.

Cultural Affiliation

Based on the information available and the results of consultation, cultural affiliation is clearly identified by the information available about the human remains and associated funerary objects described in this notice.

Determinations

The UMSL has determined that:

• The human remains described in this notice represent the physical remains of 270 individuals of Native American ancestry.

• The 3,272 objects described in this notice are reasonably believed to have been placed intentionally with or near individual human remains at the time of death or later as part of the death rite or ceremony.

• There is a connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 1, 2026. If competing requests for repatriation are received, the UMSL must determine the most appropriate requestor prior to repatriation. Requests for joint repatriation of the human remains and associated funerary objects are considered a single request and not competing requests. The UMSL is responsible for sending a copy of this notice to the Indian Tribes and Native Hawaiian organizations identified in this notice and any other consulting parties.

Authority: Native American Graves Protection and Repatriation Act, 25 U.S.C. 3003, and the implementing regulations, 43 CFR 10.10.

Dated: February 20, 2026.
Melanie O'Brien,
Manager, National NAGPRA Program.

[FR Doc. 2026-04041 Filed 2-27-26; 8:45 am]

BILLING CODE 4312-52-P